DEPARTMENT OF AGRICULTURE

Forest Service

Klamath National Forest; California; Crawford Vegetation Management Project

AGENCY: Forest Service, USDA.

ACTION: Notice of intent to prepare an environmental impact statement; correction and extension of comment period.

SUMMARY: The Forest Service published a document in the Federal Register on January 27, 2014, concerning a notice of intent to prepare an environmental impact statement. The document contains an incorrect email address. For this reason, the comment period has been extended.

FOR FURTHER INFORMATION CONTACT: Lisa Bousfield, Happy Camp Oak Knoll Ranger District, Klamath National Forest, Happy Camp, California, 96039. Phone: 530-493-1766. Email: lbousfield@fs.fed.us.

Correction: In the Federal Register of January 27, 2014, in FR Doc. 2014-01480, on page 4323, under the ADDRESSES section, the correct email address to which comments may be sent is: comments-pacificsouthwest-klamath-happy-camp@fs.fed.us.

DATES: Due to this error, the comment period has been extended. Comments concerning the scope of the analysis must be received by February 20, 2014.

Dated: January 30, 2014.
Patricia A. Grantham,
Forest Supervisor.

[FR Doc. 2014-02390 Filed 2-4-14; 8:45 am]

BILLING CODE 3410-11-P